DEPARTMENT OF ENERGY

Federal Energy Regulatory Commission

[Project No. 8606-010]

Erie Boulevard Hydropower, L.P.; Notice of Waiver of Water Quality Certification

On October 31, 2023, Erie Boulevard Hydropower, L.P. filed an application for an amendment of license exemption (non-capacity) for the Schuylerville Hydroelectric Project (project) in the above captioned docket. On February 10, 2025, the New York State Department of Environmental Conservation (New York DEC) received a request for a Clean Water Act section 401(a)(1) water quality certification from Erie Boulevard Hydropower, L.P., in conjunction with the above captioned project.

On August 11, 2025, staff provided New York DEC with written notice that the applicable reasonable period of time for it to act on the certification request was one (1) year from the date of receipt of the request, after which the certification requirement would be waived if the certifying authority failed to act by February 10, 2026. Because New York DEC did not act by February 10, 2026, we are notifying you pursuant to section 401(a)(1) of the Clean Water Act, 33 U.S.C. 1341(a)(1), that waiver of the certification requirement has occurred.

(Authority: 18 CFR 2.1)

Dated: February 19, 2026.
Debbie-Anne A. Reese,
Secretary.

[FR Doc. 2026-03661 Filed 2-23-26; 8:45 am]

BILLING CODE 6717-01-P